DEPARTMENT OF AGRICULTURE

Forest Service

Pacific Southwest Region, Regional Office, California, Sierra Nevada Forests—Supplemental EIS to the 2004 Sierra Nevada Framework per November 4, 2009 Court Order

AGENCY: Forest Service, USDA.

ACTION: Notice of Intent to prepare a supplemental environmental impact statement.

SUMMARY: The Pacific Southwest Region of the U.S. Forest Service proposes to prepare a supplemental EIS to the 2004 Sierra Nevada Framework EIS. This SEIS is intended to accomplish two narrow goals: (1) Analyze all the alternatives considered in the 2004 SEIS using the modeling techniques utilized for alternatives S1 and S2 in the 2004 SEIS; and (2) account for the new management objectives of reducing stand density for forest health, restoring and maintaining ecosystem structure and composition, and restoring ecosystems after severe wildfires and other large catastrophic events in all the alternatives evaluated. The purpose of the SEIS is to comply with two November 4, 2009 court orders from the Eastern District of California which require the preparation of this narrowly tailored SEIS.

DATES: The Draft SEIS is expected in early February 2010 and the public comment period will be open for 45 days. The supplemental environmental impact statement is expected by May 1, 2010.

FOR FURTHER INFORMATION CONTACT: For further information contact Ron Pugh, Deputy Regional Planning Director, at US Forest Service, 1323 Club Drive, Vallejo, CA, Phone 707-562-8951.

Individuals who use telecommunication devices for the deaf (TDD) may call the Federal Information Relay Service (FIRS) at 1-800-877-8339 between 8 a.m. and 8 p.m., Eastern Time, Monday through Friday.

SUPPLEMENTARY INFORMATION: The SEIS proposed in this notice is required by court orders issued in Sierra Forest Legacy v. Rey, No. 2:05-cv-00205-MCE-GGH (E.D. Cal. Nov. 4, 2009) and People of the State of California v. USDA, No. 2:05-cv-00211-MCE-GGH (E.D. Cal. Nov. 4, 2009). Those orders concluded that the Forest Service was required to remedy the 2004 Framework's violation of NEPA by preparing a focused SEIS by May 1, 2010. Specifically, the Court stated as follows:

the Court orders the Forest Service to prepare another supplemental EIS on the Framework, one that meets the range of alternatives and analytical consistency identified by the Ninth Circuit in its decision on the preliminary injunction portion of this case. That supplemental EIS process is to be completed not later than May 1, 2010. The Ninth Circuit's decision on the 2004 Framework concluded in a ruling on a motion for a preliminary injunction that the 2004 Framework's SEIS violated NEPA due a failure to properly consider alternatives. See Sierra Forest Legacy v. Rey, 577 F.3d 1015 (9th Cir. 2009). The Ninth Circuit found two particular errors, as excerpted below:

First, USFS altered its modeling techniques between the issuance of the 2001 FEIS and the 2004 SEIS. Unfortunately, the 2004 SEIS largely relied on fire risk and timber output figures in the 2001 FEIS, a mistake that was compounded because one of the alternatives that was considered in 2004 was recalculated under the new techniques, whereas the rest of the alternatives to which it was compared were not recalculated. Because USFS failed to account for its changed modeling techniques in the alternatives it considered, Legacy has a strong probability of success on the merits under NEPA.

Second, the 2004 SEIS introduced substantively new objectives from those contained within the 2001 FEIS. The 2004 SEIS repeatedly stated that its purpose was to “adjust existing management direction,” 2004 SEIS at 3098 (emphasis added), and to broaden the basic strategy “to include other management objectives such as reducing stand density for forest health, restoring and maintaining ecosystem structure and composition, and restoring ecosystems after severe wildfires and other large catastrophic disturbance events,” 2004 SEIS at 2994 (emphasis added). The introduction of these new objectives plainly constituted a change in circumstance that is “relevant to the development and evaluation of alternatives” that USFS must account for * * * in the alternatives it considers.

Purpose and Need for Action

The purpose of this action is to remedy the two flaws found by the Ninth Circuit, as required in the District Court orders of November 4, 2009.

Proposed Action

The Forest Service proposes to provide an objective comparison of all of the alternatives considered in detail in the 2004 Framework, including those carried forward from the 2001 Framework. Alternatives F1 through F8 will be analyzed using the same modeling methods that were used for Alternatives S1 and S2 (see Final Supplemental Environmental Impact Statement for the Sierra Nevada Plan Amendment, January 2004, Chapter 2). A new SEIS to the 2004 Framework SEIS will be prepared that shows the results of this analysis. The new SEIS will also consider the objectives of reducing stand density for forest health, restoring and maintaining ecosystem structure and composition, and restoring ecosystems after severe wildfires and other large catastrophic disturbance events, which the Ninth Circuit found were introduced by the 2004 Framework. A new ROD consistent with the scope of this supplement will be prepared that considers all of this updated information.

Responsible Official

Regional Forester, Pacific Southwest Region, U.S. Forest Service, 1323 Club Drive, Vallejo, CA 94592 is the Responsible Official.

Nature of Decision To Be Made

The Responsible Official will decide if a different decision from that reached in the 2004 Framework ROD is warranted when the range of alternatives flaws identified by the Ninth Circuit are remedied or if continued implementation of Alternative S2 as originally chosen in the ROD for the 2004 SEIS is warranted.

Dated: December 9, 2009.
Thomas A. Contreras,
Deputy Regional Forester.

[FR Doc. E9-29446 Filed 12-9-09; 8:45 am]

BILLING CODE 3410-11-P